DEPARTMENT OF THE INTERIOR

Minerals Management Service

[Docket no. MMS-2010-OMM-0011]

MMS Information Collection Activity: 1010-0142, Decommissioning Activities, Extension of a Collection; Comment Request

AGENCY: Minerals Management Service (MMS), Interior.

ACTION: Notice of extension of an information collection (1010-0142).

SUMMARY: To comply with the Paperwork Reduction Act of 1995 (PRA), MMS is inviting comments on a collection of information that we will submit to the Office of Management and Budget (OMB) for review and approval. The information collection request (ICR) concerns the paperwork requirements in the regulations under 30 CFR 250, Subpart Q, “Decommissioning Activities.”

DATES: Submit written comments by May 21, 2010.

FOR FURTHER INFORMATION CONTACT: Cheryl Blundon, Regulations and Standards Branch at (703) 787-1607. You may also contact Cheryl Blundon to obtain a copy, at no cost, of the regulation that requires the subject collection of information.

ADDRESSES: You may submit comments by either of the following methods listed below.

• Electronically: go to http://www.regulations.gov. In the entry titled “Enter Keyword or ID,” enter docket ID MMS-2010-OMM-0011 then click search. Follow the instructions to submit public comments and view supporting and related materials available for this collection. The MMS will post all comments.

• Mail or hand-carry comments to the Department of the Interior; Minerals Management Service; Attention: Cheryl Blundon; 381 Elden Street, MS-4024; Herndon, Virginia 20170-4817. Please reference ICR 1010-0142 in your comment and include your name and return address.

SUPPLEMENTARY INFORMATION: Title: 30 CFR Part 250, Subpart Q, Decommissioning Activities.

OMB Control Number: 1010-0142.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

This authority and responsibility are among those delegated to the Minerals Management Service (MMS). The regulations at 30 CFR 250, Subpart Q, concern decommissioning of platforms, wells, and pipelines, as well as site clearance and platform removal and are the subject of this collection.

Regulations at 30 CFR 250, Subpart Q, implement these statutory requirements. We use the information for the following reasons:

• To determine the necessity for allowing a well to be temporarily abandoned, the lessee/operator must demonstrate that there is a reason for not permanently abandoning the well, and the temporary abandonment will not constitute a significant threat to fishing, navigation, or other uses of the seabed. We use the information and documentation to verify that the lessee is diligently pursuing the final disposition of the well, and the lessee has performed the temporary plugging of the wellbore.

• The information submitted in “initial” decommissioning plans in the Alaska and Pacific OCS Regions will permit MMS to become involved on the ground floor planning of the world-class platform removals anticipated to occur in these OCS regions.

• Site clearance and platform or pipeline removal information ensures that all objects (wellheads, platforms, etc.) installed on the OCS are properly removed using procedures that will protect marine life and the environment during removal operations, and the site cleared so as not to conflict with or harm other uses of the OCS.

• Decommissioning a pipeline in place is needed to ensure that it will not constitute a hazard to navigation and commercial fishing operations, unduly interfere with other uses of the OCS, or have adverse environmental effects.

• The information is necessary to verify that decommissioning activities comply with approved applications and procedures and are satisfactorily completed.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: On occasion.

Description of Respondents: Potential respondents comprise Federal oil, gas, or sulphur lessees and/or operators.

Estimated Reporting and Recordkeeping Hour Burden: The currently approved annual reporting burden for this collection is 17,991 hours. The following chart details the individual components and respective hour burden estimates of this ICR. In calculating the burdens, we assumed that respondents perform certain requirements in the normal course of their activities. We consider these to be usual and customary and took that into account in estimating the burden.

Citation 30 CFR 250 subpart Q | Reporting requirement | Hour burden: Non-hour cost burden
General
1700 thru 1754 | General departure and alternative compliance requests not specifically covered elsewhere in subpart Q regulations | 3
1703; 1704 | Request approval for decommissioning—burden included below | 0
1704(g); 1712; 1716; 1717; 1721(a), (d), (f), (g); 1722(a), (b), (d); 1723(b); 1743(a) | Submit form MMS-124 to plug wells; provide subsequent report; request alternate depth departure; request procedure to protect obstructions above seafloor; report within 30 days, results of trawling; certify area cleared of obstructions; remove casing stub or mud line suspension equipment and subsea protective covering; or other departures | Burden included under 1010-0141.
Permanently Plugging Wells
1711 | Required data if permanently plugging a well (requirement not considered IC under 5 CFR 1320.3(h)(9)) | 0
1713 | Notify MMS 48 hours before beginning operations to permanently plug a well | .25
Temporary Abandoned Wells
1721(e); 1722(e), (h)(1); 1741(c) | Identify and report subsea wellheads, casing stubs, or other obstructions; mark wells protected by a dome; mark location to be cleared as navigation hazard | U.S. Coast Guard requirements.
1722(c), (g)(2) | Notify MMS within 5 days if trawl does not pass over protective device or causes damages to it; or if inspection reveals casing stub or mud line suspension is no longer protected | .25
1722(f), (g)(3) | Submit annual report on plans for re-entry to complete or permanently abandon the well and inspection report | 2
1722(h) | Request waiver of trawling test | 2
Removing Platforms and Other Facilities
1726; 1704(a) | Submit initial decommissioning application in the Pacific OCS Region and Alaska OCS Region | 20
1725; 1727; 1728; 1730; 1704(b) | Submit final application and appropriate data to remove platform or other subsea facility structures (including alternate depth departure) or approval to maintain, to conduct other operations, or to convert to artificial reef | 20 $4,342 application fee
1725(e) | Notify MMS 48 hours before beginning removal of platform and other facilities | .25
1729; 1704(c) | Submit post platform or other facility removal report; supporting documentation; signed statements, etc | 8
1731(c) | Request deferral of facility removal subject to RUE issued under 30 CFR 285
Site Clearance for Wells, Platforms, and Other Facilities
1740 | Request approval to use alternative methods of well site, platform, or other facility clearance | 12
1743(b); 1704(f) | Verify permanently plugged well, platform, or other facility removal site cleared of obstructions; supporting information; submit certification letter | 18
Pipeline Decommissioning
1750; 1751; 1752; 1754; 1704(d) | Submit application to decommission pipeline in place or remove pipeline (L/T or ROW) | 10
|  | $1,059 L/T application fee.
|  | $2,012 ROW application fee.
1753; 1704(e) | Submit post pipeline decommissioning report | 3

Estimated Reporting and Recordkeeping Non-Hour Cost Burden: We have identified three non-hour paperwork cost burdens for this collection. Respondents pay filing fees when removing a platform or other facility under § 250.1727 for $4,342, or for decommissioning a pipeline under § 250.1751(a)—L/T for $1,059 or a ROW for $2,012. The application filing fees are required to recover the Federal Government's processing costs. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: March 15, 2010.
Sharon Buffington,
Acting Chief, Office of Offshore Regulatory Programs.

[FR Doc. 2010-6110 Filed 3-19-10; 8:45 am]

BILLING CODE 4310-MR-P